DEPARTMENT OF LABOR

Mine Safety and Health Administration

Petitions for Modification of Application of Existing Mandatory Safety Standard

AGENCY: Mine Safety and Health Administration, Labor.

ACTION: Notice.

SUMMARY: This notice is a summary of petitions for modification submitted to the Mine Safety and Health Administration (MSHA) by the parties listed below.

DATES: All comments on the petition must be received by MSHA's Office of Standards, Regulations, and Variances on or before March 22, 2019.

ADDRESSES: You may submit your comments, identified by “docket number” on the subject line, by any of the following methods:

1. Email: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect a copy of the petition and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (voice), barron.barbara@dol.gov (email), or 202-693-9441 (fax). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2018-023-C.

Petitioner: Little Buck Coal Company, 21 Pine Lane, Pine Grove, Pennsylvania 17963.

Mine: Broad Mountain Slope, MSHA I.D. No. 36-10233, located in Schuylkill County, Pennsylvania.

Regulation Affected: 30 CFR 75.1200(d), (h) and (i) (Mine map).

Modification Request: The petitioner requests a modification of the existing standard to permit the substation of cross-sections in lieu of contour lines through the intake slope, at locations of rock tunnel connections between veins, at 1,000 feet intervals of advance from the intake slope, and to limit the required mapping of mine workings above and below to those present within 100 feet of the coal vein(s) being mined through rock tunnels, unless these veins are interconnected to other veins beyond the 100 feet limit.

The petitioner requests modification of 30 CFR 75.1200(d), (h) and (i) for the following reasons:

(1) Due to the steep pitch encountered in mining anthracite coal veins, contour lines provide no useful information and their presence would make portions of the map illegible.

(2) The use of cross-sections in lieu of contour lines has been practiced since the late 1800s and provides critical information about spacing between veins and proximity to other mine workings, which fluctuate considerably.

(3) The vast majority of current underground anthracite mining involves either second mining of remnant pillars from previous mining or the mining of coal veins of lower quality in proximity to inaccessible and frequently flooded abandoned mine workings that may or may not be mapped.

(4) All mapping for mines above and below is researched by the petitioner's contract engineer for the presence of interconnecting rock tunnels between veins in relation to the mine, and a hazard analysis is done when mapping indicates the presence of known or potentially flooded workings.

(5) When no rock tunnel connections are found, mine workings that exist beyond 100 feet from the mine are recognized as presenting no hazard to the mine due to the pitch of the vein and rock separation between the workings.

(6) The petitioner states that the mine workings above and below are usually inactive and abandoned and, therefore, are not usually subject to changes during the life of the mine.

(7) When evidence indicates prior mining was conducted on a coal vein above or below and research exhausts the availability of mine mapping, the vein will be considered mined and flooded and appropriate precautions will be taken in accordance with 30 CFR 75.388, which addresses drilling boreholes in advance of mining.

(8) Where potential hazards exist and in-mine drilling capabilities limit penetration, surface boreholes may be used to intercept the workings and the results analyzed prior to beginning mining in the affected area.

The petitioner proposed the following terms and conditions:

(a) A search by a registered engineer or surveyor of all available mapping, including cross-sections will be conducted to determine the spacing between coal veins and the proximity of the existing and projected workings of the mine to other workings of adjacent mines. A hazard analysis will be done when mapping indicates the presence of known or potentially flooded workings.

(b) The map will show cross section(s) through the slope, at locations of rock tunnels between coal veins, and along gangways at 1,000-foot intervals. The mapping provided will show the crop line of the vein being mined.

(c) Where adjacent workings are located within 1,000 feet of the projected limit(s) of the same vein being mined, those working will be mapped, the potential water and gas hazards will be evaluated, and a revised drilling program, if needed, will be established under 30 CFR 75.388.

(d) Where projections include mining-through into inaccessible areas of the same coal vein or adjacent vein(s) and the conditions cannot be determined, a plan detailing the operation will be submitted under 30 CFR 75.389 for approval by the District Manager.

(e) Prior to recovering pillars known to be below the water level elevation in adjacent workings, a revised recovery plan will be submitted under 30 CFR 75.220(a)(1) for approval by the District Manager.

(f) When veins within 100 feet above or below the coal vein being mined are interconnected by rock tunnels to other veins, all interconnected vein mapping will be provided to within 1,000 feet of the active workings.

(g) Within 60 days after the Proposed Decision and Order (PDO) becomes final, the petitioner will submit proposed revisions for its approved 30 CFR part 48 training plan to the District Manager. These proposed revisions will include initial and refresher training regarding compliance with the PDO.

The petitioner asserts that the proposed alternative method will provide no less than the same measure of protection afforded the miners under the existing standard.

Docket Number: M-2018-024-C.

Petitioner: Little Buck Coal Company, 21 Pine Lane, Pine Grove, Pennsylvania 17963.

Mine: Broad Mountain Slope, MSHA I.D. No. 36-10233, located in Schuylkill County, Pennsylvania.

Regulation Affected: 30 CFR 75.1202-1(a) (Temporary notations, revisions, and supplements).

Modification Request: The petitioner requests a modification of the existing standard to permit the required interval of survey to be established on an annual basis from the initial survey in lieu of every 6 months as required.

The petitioner requests modification of 30 CFR 75.1202-1(a) for the following reasons:

(1) The low production and slow rate of advance in anthracite mining make surveying on a 6-month interval impractical. In most cases, annual development is frequently limited to less than 500 feet of gangway advancement with associated up-pitch development.

(2) The vast majority of small anthracite miners are using non-mechanized, hand-loading methods of mining.

(3) Development above the active gangway is designed to mine into the level above at designated intervals thereby maintaining sufficient control between both survey gangways.

(4) The availability of engineering/surveyor resources are very limited in the anthracite coal fields with surveying on an annual basis difficult to achieve with three contractors currently available.

The petitioner proposes the following terms and conditions:

(a) The mine map will be revised and supplemented at intervals of not more than 12 months on the basis of a survey made or certified by a registered engineer or a registered surveyor.

(b) The mine map will also be revised and supplemented on the basis of a survey made or certified by a registered engineer or registered surveyor prior to final retreat mining or from the point of the deepest penetration of gangway advance or breast advance if not connected to a surveyed location.

(c) Within 60 days after the Proposed Decision and Order (PDO) becomes final, the petitioner will submit proposed revisions for its approved 30 CFR part 48 training plan to the District Manager. These proposed revisions will include initial and refresher training regarding compliance with the PDO.

The petitioner asserts that the proposed alternative method will provide no less than the same measure of protection afforded the miners under the existing standard.

Docket Number: M-2018-025-C.

Petitioner: Little Buck Coal Company, 21 Pine Lane, Pine Grove, Pennsylvania 17963.

Mine: Broad Mountain Slope, MSHA I.D. No. 36-10233, located in Schuylkill County, Pennsylvania.

Regulation Affected: 30 CFR 75.1400(c) (Hoisting equipment; general).

Modification Request: The petitioner requests a modification of the existing standard to permit operating the gunboat used in the mine to transport persons without safety catches or other no less effective devices because, to date, no such safety catch or device is available for use in the steeply pitching and undulating slopes with numerous curves and knuckles present in the main haulage slopes of the petitioner's mine.

The petitioner requests modification of 30 CFR 75.1400(c) for the following reasons:

(1) Anthracite mine slopes range in length from 180 to 1,000 feet and vary in pitch from 30 to 75 degrees.

(2) A functional safety catch has not been developed and, consequently, if a makeshift device is installed it could activate on knuckles or curves when no emergency existed, causing a tumbling effect on the conveyance which would increase rather than decrease the hazard to miners. Therefore, the petitioner proposes to operate the steel gunboat with secondary safety connections securely fastened around the gunboat and to the hoisting rope above the main connecting device, and use hoisting ropes having a safety factor in excess of three.

The petitioner proposes the following terms and conditions:

(a) A communication signal system, audible to the hoist operator, will be installed so that it can be activated from the gunboat at any location along the slope.

(b) The design safety factor of the hoist rope will be maintained at all times as not less than three times the values specified in 30 CFR 75.1431.

(c) A detailed inspection procedure of the ropes and terminations used at the mine will be posted in the hoist house and complied with at all times.

(d) A secondary safety connection will be securely fastened around the gunboat and securely fastened to the hoisting rope at a point above the main connecting device. The secondary safety connection must meet the safety factor requirements described in Item (b) above. The secondary safety connection will be the same size as or greater than the primary hoist rope and properly terminated above the primary hoist rope attachment with at least two clips on each end or with equivalent strength chains.

(e) At least 2 feet of clearance must be maintained between the highest part of the secondary attachment and the head sheave when the gunboat is positioned in the full dump position.

(f) Within 60 days after the Proposed Decision and Order (PDO) becomes final, the petitioner will submit proposed revisions for its approved 30 CFR part 48 training plan to the District Manager. These proposed revisions will include initial and refresher training regarding compliance with the PDO.

The petitioner asserts that the alternative method will guarantee no less than the same measure of protection for all miners than that of the existing standard.

Sheila McConnell,
Director, Office of Standards, Regulations, and Variances.

[FR Doc. 2019-02745 Filed 2-19-19; 8:45 am]

BILLING CODE 4520-43-P